DEPARTMENT OF HOMELAND SECURITY

Office of the Secretary

[Docket No. DHS-2013-0020]

Privacy Act of 1974; Department of Homeland Security Transportation Security Administration—DHS/TSA-019 Secure Flight Records System of Records

AGENCY: Department of Homeland Security.

ACTION: Notice of modified Privacy Act system of records.

SUMMARY: In accordance with the Privacy Act of 1974, the Department of Homeland Security proposes to update and reissue a current Department of Homeland Security system of records titled, “Department of Homeland Security/Transportation Security Administration—DHS/TSA-019 Secure Flight Records System of Records.” This system of records allows the Department of Homeland Security/Transportation Security Administration to collect and maintain records on aviation passengers and certain non-travelers to screen such individuals, before they access airport sterile areas or board aircraft, in order to identify and prevent a threat to aviation security or the lives of passengers and others. TSA is reissuing this system of records to update the categories of records to include whether a passenger will receive expedited, standard, or enhanced screening. The primary impact of this change will be the identification of additional passengers who are eligible for expedited screening at participating airport security checkpoints. This updated system will be included in the Department of Homeland Security's inventory of system of records.

DATES: Submit comments on or before October 10, 2013. This updated system will be effective upon publication except that the change to the categories of records will be effective 30 days after date of publication in the Federal Register.

ADDRESSES: You may submit comments, identified by docket number DHS-2013-0020 by one of the following methods:

• Federal e-Rulemaking Portal: ­http://www.regulations.gov. Follow the instructions for submitting comments.

• Fax: 202-343-4010.

• Mail: Jonathan R. Cantor, Acting Chief Privacy Officer, Privacy Office, Department of Homeland Security, Washington, DC 20528.

Instructions: All submissions received must include the agency name and docket number for this rulemaking. All comments received will be posted without change to http://www.regulations.gov, including any personal information provided.

Docket: For access to the docket to read background documents or comments received, please visit http://www.regulations.gov.

FOR FURTHER INFORMATION CONTACT: For general questions, please contact: Peter Pietra, Privacy Officer, TSA-36, Transportation Security Administration, 601 South 12th Street, Arlington, VA 20598-6036; email: TSAPrivacy@dhs.gov. For privacy questions, please contact: Jonathan R. Cantor, Acting Chief Privacy Officer, Privacy Office, Department of Homeland Security, Washington, DC 20528.

SUPPLEMENTARY INFORMATION:

I. Background

In accordance with the Privacy Act of 1974, 5 U.S.C. 552a, the Department of Homeland Security (DHS)/Transportation Security Administration (TSA) proposes to update and reissue a current DHS system of records titled, “DHS/TSA-019 Secure Flight Records System of Records.” This system of records notice was last updated on November 19, 2012.¹ TSA is modifying the DHS/TSA-019 Secure Flight Records system of records Categories of Records section in subsection (a) to add records containing the results from TSA's intelligence-driven risk-based analysis of Secure Flight Passenger Data (SFPD). Secure Flight Passenger Data is full name, gender, date of birth, redress number or Known Traveler number, passport information (if applicable), reservation control number, record sequence number, record type, passenger update indicator, traveler reference number, and itinerary information. 49 CFR § 1560.

¹ 77 FR 69491 (Nov. 19, 2012).

Under sec. 4012(a)(1)-(2) of the Intelligence Reform and Terrorism Prevention Act of 2004 (IRTPA),² Congress directed TSA and DHS to assume from aircraft operators the function of comparing aircraft operator passenger information to data in the Terrorist Screening Database (TSDB) maintained by the Terrorist Screening Center (TSC).³

² Public Law 108-458, 118 Stat. 3638 (December 17, 2004).

³ The TSC maintains the Federal government's consolidated and integrated terrorist watch list, known as the TSDB. The TSC was established by the Attorney General in coordination with the Secretary of State, the Secretary of Homeland Security, the Director of the Central Intelligence Agency, the Secretary of the Treasury, and the Secretary of Defense. The Attorney General, acting through the Director of the Federal Bureau of Investigation (FBI), established the TSC in support of Homeland Security Presidential Directive 6 (HSPD-6), dated September 16, 2003, which required the Attorney General to establish an organization to consolidate the Federal Government's approach to terrorism screening and to provide for the appropriate and lawful use of terrorist information in screening processes.

In order to implement this statutory directive, TSA promulgated the Secure Flight Program regulations ⁴ for the purpose of enhancing the security of air travel in the United States and to support the federal government's counter-terrorism efforts by assisting in the detection of individuals on federal government watch lists who seek to travel by air, and to facilitate the secure travel of the public. TSA fully assumed the watch list matching function from aircraft operators and air carriers by November 2010.

⁴ 73 FR 64018 (Oct. 28, 2008).

TSA established the Secure Flight system of records and published the System of Records Notice (SORN) in the Federal Register on August 23, 2007.⁵ TSA updated and republished the SORN in the Federal Register on November 9, 2007,⁶ and again on November 19, 2012.⁷ Information collection falls under OMB Control Number 1652-0046.

⁵ 72 FR 48392.

⁶ 72 FR 63711.

⁷ 77 FR 69491.

As part of TSA's ongoing efforts to identify appropriate security screening for commercial aviation travelers, TSA plans to implement a risk-based analysis of passenger and flight data provided through the computer system that processes Secure Flight and other data. TSA is amending the Secure Flight SORN to reflect this addition to TSA's passenger prescreening capabilities. Prescreening involves the use of information to make decisions before the passenger receives a boarding pass, to determine what level of physical screening the passenger will receive when he or she arrives at the TSA airport security checkpoint. This change is part of TSA's ongoing efforts to identify appropriate screening for travelers, including those who present a lower security risk. The primary result of this change will be the identification of passengers who are eligible for expedited screening at participating airport security checkpoints.⁸

⁸ Passengers who are eligible for expedited screening are referred to a TSA Pre☐™ expedited screening lane where they typically will be able to leave on their shoes, light outerwear, and belt, to keep their laptop in its case, and to keep their 3-1-1 compliant liquids/gels bag in a carry-on. TSA Pre☐™ lanes are available at 40 airports nationwide, with additional expansion planned. See TSA Pre☐™ Now Available at 40 Airports Nationwide: Expedited Screening Begins at Raleigh-Durham International Airport, http://www.tsa.gov/press/releases/2013/03/28/tsa-pre%E2%9C%93%E2%84%A2-now-available-40-airports-nationwide-expedited-screening-begins.

Risk-based Analysis of Passenger and Flight Data

TSA's risk-based analysis is designed to increase the number of airline passengers who may be eligible for expedited screening.⁹ The risk-based analysis is applied to secure flight passenger data, including travel itinerary, that TSA already receives pursuant to the Secure Flight regulations, and to frequent flyer information that aircraft operators submit to TSA. TSA is not collecting any new passenger information for the risk-based analysis.

⁹ Individuals who are a match to a watch list, however, are not eligible for expedited screening.

TSA's risk-based analysis of SFPD also may be used to give greater scrutiny to a particular flight or individual when, based on current intelligence or other factors, TSA concludes that there is greater risk. That greater scrutiny could result in more passengers receiving Selectee screening, fewer passengers receiving expedited screening, or other security procedures not visible to the general public.

The risk-based analysis includes a level of randomness to ensure unpredictable results. One potential result of the randomness is that a passenger who might otherwise receive expedited screening as a result of this process may instead be randomly selected to receive standard screening or enhanced screening, such as explosives detection testing.

Passengers who are a match to a watch list will continue to receive an appropriate screening; this change will not affect those populations. For all other passengers, the passenger prescreening computer system will conduct risk-based analysis of passenger data using the SFPD that TSA already receives from aircraft operators pursuant to the Secure Flight regulations, and frequent flyer information that aircraft operators submit to TSA. TSA will then review this information using intelligence-driven, risk-based analysis to determine whether individual passengers will receive expedited, standard, or enhanced screening; the results will be indicated on the passenger's boarding pass.

No one will be denied the ability to fly or to enter the sterile area ¹⁰ of an airport based on the results of the risk-based analysis. The primary result of the risk-based analysis will be the identification of passengers who are eligible for expedited screening at participating airport security checkpoints.

¹⁰ “Sterile area” means a portion of an airport defined in the airport security program that provides passengers access to boarding aircraft and to which the access generally is controlled by TSA, an aircraft operator, or a foreign air carrier through the screening of persons and property. 49 CFR § 1540.5.

II. Privacy Act

The Privacy Act embodies fair information practice principles in a statutory framework governing the means by which the federal government agencies collect, maintain, use, and disseminate individuals' records. The Privacy Act applies to information that is maintained in a “system of records.” A “system of records” is a group of any records under the control of an agency for which information is retrieved by the name of an individual or by some identifying number, symbol, or other identifying particular assigned to the individual. In the Privacy Act, an individual is defined to encompass U.S. citizens and lawful permanent residents. As a matter of policy, DHS extends administrative Privacy Act protections to all individuals where systems of records maintain information on U.S. citizens, lawful permanent residents, and visitors.

Below is the description of the DHS/TSA-019 Secure Flight Records System of Records.

In accordance with 5 U.S.C. 552a(r), DHS has provided a report of this system of records to the Office of Management and Budget and to Congress.

System of Records

Department of Homeland Security (DHS)/Transportation Security Administration (TSA)-019.

System name:

DHS/TSA-019 Secure Flight Records.

Security classification:

Unclassified; Sensitive Security Information.

System location:

Records are maintained at the Transportation Security Administration (TSA), 601 South 12th Street, Arlington, VA, and at other secure TSA facilities in Annapolis Junction, Maryland and Colorado Springs, Colorado. Records also may be maintained at the secured facilities of contractors or other parties that perform functions under the Secure Flight program.

Categories of individuals covered by the system:

(a) Individuals who attempt to make reservations for travel on, have traveled on, or have reservations to travel on a flight operated by a U.S. aircraft operator, or a flight into, out of, or overflying the United States that is operated by a foreign air carrier, or flights operated by the U.S. government, including flights chartered or leased by the U.S. government;

(b) Non-traveling individuals who seek to obtain authorization from an aircraft or airport operator to enter the sterile area of an airport;

(c) For flights that TSA grants a request by the operators of leased or charter aircraft with a maximum take-off weight over 12,500 pounds to screen the individuals using Secure Flight, the following individuals: (1) individuals who seek to charter or lease an aircraft with a maximum take-off weight over 12,500 pounds or who are proposed to be transported on or operate such charter aircraft; and (2) owners and/or operators of such chartered or leased aircraft;

(d)(1) Known or suspected terrorists identified in the Terrorist Screening Database (TSDB) maintained by the Terrorist Screening Center (TSC); and (2) individuals identified on classified and unclassified governmental databases such as law enforcement, immigration, or intelligence databases;

(e) Individuals who have been distinguished from individuals on a watch list through a redress process, or other means; and

(f) Individuals who are identified as Known Travelers for whom the federal government has conducted a security threat assessment and determined do not pose a security threat.

Categories of records in the system:

(a) Records containing passenger and flight information (e.g., full name, date of birth, gender, redress number, known traveler number, passport information, frequent flyer designator code or other identity authentication/verification code obtained from aircraft operators, and itinerary); records containing the results of risk-based analysis in the TSA passenger prescreening system, including boarding pass printing results; records containing information about non-traveling individuals seeking access to an airport sterile area for a purpose approved by TSA; and records containing information about individuals who seek to charter, lease, operate or be transported on aircraft with a maximum take-off weight over 12,500 pounds if TSA grants the request of an aircraft owner or operator to use Secure Flight;

(b) Records containing information from an individual's form of identification or a physical description of the individual;

(c) Records obtained from the TSC of known or suspected terrorists in the TSDB; and records regarding individuals identified on classified and unclassified governmental watch lists;

(d) Records containing the matching analyses and results of comparisons of individuals to the TSDB and other classified and unclassified governmental watch lists.

(e) Records related to communications between or among TSA and aircraft operators, airport operators, owners and/or operators of leased or charter aircraft with a maximum take-off weight over 12,500 pounds, TSC, law enforcement agencies, intelligence agencies, and agencies responsible for airspace safety or security, regarding the screening status of passengers or non-traveling individuals and any operational responses to individuals identified in the TSDB;

(f) Records of the redress process that include information on known misidentified persons, including any Redress Number assigned to those individuals;

(g) Records that track the receipt, use, access, or transmission of information as part of the Secure Flight program;

(h) Electronic System for Travel Authorization status code generated by U.S. Customs and Border Protection (CBP) for international travelers; and

(i) Records containing information about individuals who are identified as Known Travelers.

Authority for maintenance of the system:

49 U.S.C. 114, 40113, 44901, 44903, and 44909.

Purpose(s):

The Secure Flight Records system will be used to identify and protect against potential and actual threats to transportation security and support the Federal Government's counterterrorism efforts by assisting in the identification of individuals who warrant further scrutiny prior to boarding an aircraft or seek to enter a sterile area or who warrant denial of boarding or denial of entry to a sterile area on security grounds. It also will be used to identify individuals who are lower risk and therefore may be eligible for expedited screening at the airport security checkpoint. Both of these functions are designed to facilitate the secure travel of the public.

Routine uses of records maintained in the system, including categories of users and the purposes of such uses:

(1) To the TSC in order to: (a) Determine whether an individual is a positive identity match to an individual identified as a known or suspected terrorist in the watch list; (b) allow redress of passenger complaints; (c) facilitate an operational response, if one is deemed appropriate, for individuals who are a positive identity match to an individual identified as a known or suspected terrorist in the watch list; (d) provide information and analysis about terrorist encounters and known or suspected terrorist associates to appropriate domestic and foreign government agencies and officials for counterterrorism purposes; and (e) perform technical implementation functions necessary for the Secure Flight program.

(2) To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

(3) To aircraft operators, foreign air carriers, airport operators, the Department of Transportation, and the Department of Defense or other U.S. government agencies or institutions, to communicate individual screening status, and facilitate an operational response, where appropriate, to individuals who pose or are suspected of posing a risk to transportation or national security.

To aircraft operators or foreign air carriers, to communicate individual screening status, where appropriate, to individuals who are a low risk to transportation or National security

(4) To owners or operators of leased or charter aircraft to communicate individual screening status and facilitate an operational response, where appropriate, to individuals who pose or are suspected of posing a risk to transportation or national security.

(5) To the appropriate federal, state, local, tribal, territorial, or foreign, agency regarding or to identify individuals who pose, or are under reasonable suspicion of posing, a risk to transportation or national security.

(6) To the Department of Justice (DOJ) or other Federal agency for purposes of conducting litigation or administrative proceedings, when: (a) the Department of Homeland Security (DHS), or (b) any employee or former employee of DHS in his/her official capacity, or (c) any employee or former employee of DHS in his/her individual capacity where the DOJ or DHS has agreed to represent the employee, or (d) the United States or any agency thereof, is a party to the litigation or proceeding or has an interest in such litigation or proceeding.

(7) To the National Archives and Records Administration (NARA) or other Federal agencies pursuant to records management inspections being conducted under the authority of 44 U.S.C. 2904 and 2906.

(8) To a congressional office in response to an inquiry from that congressional office made at the request of the individual.

(9) To the Government Accountability Office or other agency, organization, or individual for the purposes of performing authorized audit or oversight operations, but only such information as is necessary and relevant to such audit and oversight functions.

(10) To the appropriate federal, state, local, tribal, territorial, or foreign agency responsible for investigating, prosecuting, enforcing, or implementing a statute, rule, regulation, or order regarding a violation or potential violation of civil or criminal law, regulation, or order when such disclosure is proper and consistent with the performance of the official duties of the person making the disclosure.

(11) To international and foreign governmental authorities in accordance with law and formal or informal international agreements when such disclosure is proper and consistent with the performance of the official duties of the person making the disclosure.

(12) To appropriate agencies, entities, and persons when (a) TSA suspects or has confirmed that the security or confidentiality of information in the system of records has been compromised; (b) TSA has determined that as a result of the suspected or confirmed compromise there is a risk of harm to economic or property interests, identity theft or fraud, or harm to the security or integrity of this system or other systems or programs (whether maintained by TSA or another agency or entity) that rely upon the compromised information; and (c) the disclosure made to such agencies, entities, and persons is reasonably necessary to assist in connection with TSA's efforts to respond to the suspected or confirmed compromise and prevent, minimize, or remedy such harm.

(13) To appropriate federal, state, local, tribal, or foreign governmental agencies or multilateral governmental organizations, including the World Health Organization, for purposes of assisting such agencies or organizations in preventing exposure to or transmission of communicable or quarantinable disease or for combating other significant public health threats; appropriate notice will be provided of any identified health threat or risk.

Disclosure to consumer reporting agencies:

None.

Policies and practices for storing, retrieving, accessing, retaining, and disposing of records in the system:

Storage:

Records are maintained at the Transportation Security Administration, 601 South 12th Street, Arlington, VA, and at other secure TSA facilities in Annapolis Junction, Maryland and Colorado Springs, Colorado. Records also may be maintained at the secured facilities of contractors or other parties that perform functions under the Secure Flight program. The records are stored on magnetic disc, tape, digital media, and CD-ROM, and may also be retained in hard copy format in secure file folders or safes.

Retrievability:

Data are retrievable by the individual's name or other identifier, as well as non-identifying information such as itinerary.

Safeguards:

All records are protected from unauthorized access through appropriate administrative, physical, and technical safeguards. The system is also protected through a multi-layer security approach. The protective strategies are physical, technical, administrative and environmental in nature and provide role-based access control to sensitive data, physical access control to DHS facilities, confidentiality of communications, including encryption, authentication of sending parties, compartmentalizing databases; auditing software and personnel screening to ensure that all personnel with access to data are screened through background investigations commensurate with the level of access required to perform their duties.

Information in this system is safeguarded in accordance with applicable rules and policies, including any applicable TSA and DHS automated systems security and access policies. The system will be in compliance with Office of Management and Budget and National Institute of Standards and Technology guidance. Access to the computer system containing the records in this system of records is limited to those individuals who require it to perform their official duties. The computer system also maintains a real-time audit of individuals who access the system.

Retention and disposal:

Records relating to an individual determined by the automated matching process to be neither a match nor or potential match to a watchlist will be destroyed within seven days after completion of the last leg of the individual's directional travel itinerary. Records relating to an individual determined by the automated matching process to be a potential watch list match will be retained for seven years after the completion of the individual's directional travel itinerary. Records relating to an individual determined to be a confirmed watchlist match will be retained for 99 years after the date of match confirmation.

Lists of individuals stored in Secure Flight, such as individuals identified as Known Travelers and individuals who have been disqualified from eligibility to receive expedited screening as a result of their involvement in certain security incidents, will be deleted or destroyed when superseded by an updated list.

System Manager and address:

Secure Flight Mission Support Branch Manager, Transportation Security Administration, TSA-19, 601 South 12th Street, Arlington, VA, 20598-6019.

Notification Procedure:

To determine whether this system contains records relating to you, write to the Freedom of Information Act Office, Transportation Security Administration, TSA-20, 601 South 12th Street, Arlington, VA 20598-6020.

Record access procedures:

Requests for records access must be in writing and should be addressed to the Freedom of Information Act Office, Transportation Security Administration, TSA-20, 601 South 12th Street, Arlington, VA, 20598-6020. Requests should conform to the requirements of 6 CFR part 5, Subpart B, which provides the rules for requesting access to Privacy Act records maintained by DHS. The envelope and letter should be clearly marked “Privacy Act Access Request.” The request should include a general description of the records sought and must include the requester's full name, current address, and date and place of birth. The request must be signed and either notarized or submitted under penalty of perjury. Some information may be exempt from access provisions. An individual who is the subject of a record in this system may access those records that are not exempt from disclosure. A determination whether a record may be accessed will be made at the time a request is received.

Individuals who believe they have been improperly denied entry by CBP, refused boarding for transportation, or identified for additional screening may submit a redress request through the DHS Traveler Redress Program (“TRIP”) (see 72 FR 2294, January 18, 2007). TRIP is a single point of contact for individuals who have inquiries or seek resolution regarding difficulties they experienced during their travel screening at transportation hubs—like airports and train stations or crossing U.S. borders. Through TRIP, a traveler can correct erroneous data stored in Secure Flight and other data stored in other DHS databases through one application. Additionally, for further information on the Secure Flight program and the redress options please see the accompanying Privacy Impact Assessment for Secure Flight published on the DHS Web site at www.dhs.gov/privacy. Redress requests should be sent to: DHS Traveler Redress Inquiry Program (TRIP), TSA-901, 601 South 12th Street, Arlington, VA 20598-6036 or online at http://www.dhs.gov/trip.

Contesting Record Procedures:

Same as “Notification Procedure” and “Record Access Procedure” above.

Record Source Categories:

Information contained in the system is obtained from U.S. aircraft operators, foreign air carriers, the owners and operators of leased or charter aircraft with a maximum take-off weight over 12,500 pounds who request TSA screening, the TSC, TSA employees, airport operators, Federal executive branch agencies, Federal judicial and legislative branch entities, State, local, international, and other governmental agencies, private entities for Known Traveler program participants, and the individuals to whom the records in the system pertain.

Exemptions claimed for the system:

No exemption will be asserted with respect to identifying information, or flight information, obtained from passengers, non-travelers, and aircraft owners or operators.

This system, however, may contain records or information recompiled from or created from information contained in other systems of records, which are exempt from certain provisions of the Privacy Act. For these records or information only, in accordance with 5 U.S.C. 552a(j)(2) and (k)(2), TSA claims the following exemptions for these records or information from subsections (c)(3) and (4); (d)(1), (2), (3), and (4); (e)(1), (2), (3), (4)(G) through (I), (5), and (8); (f); and (g) of the Privacy Act of 1974, as amended, as necessary and appropriate to protect such information. Certain portions or all of these records may be exempt from disclosure pursuant to these exemptions. A Final Rule was promulgated in accordance with the requirements of 5 U.S.C. 553(b), (c) and (e) and can be found at 72 FR 63706 (Nov. 9, 2007).

Dated: September 4, 2013.
Jonathan R. Cantor,
Acting Chief Privacy Officer. Department of Homeland Security.

[FR Doc. 2013-21980 Filed 9-9-13; 8:45 am]

BILLING CODE 9110-05-P